DEPARTMENT OF ENERGY

Secretary of Energy Advisory Board

AGENCY: Department of Energy.

ACTION: Notice of open meeting.

SUMMARY: This notice announces an open meeting of the Secretary of Energy Advisory Board. The Federal Advisory Committee Act (Pub. L. 92-463, 86 Stat. 770), requires that agencies publish these notices in the Federal Register to allow for public participation.

DATES: Wednesday, December 10, 2003, 9:15 a.m.-3:45 p.m.

ADDRESSES: Ritz-Carlton Washington DC, Salon IIIA, 1150 22nd Street, NW., Washington, DC 20037.

FOR FURTHER INFORMATION CONTACT: Mr. Richard Burrow, Acting Executive Director, Secretary of Energy Advisory Board (AB-1), U.S. Department of Energy, 1000 Independence Avenue, SW., Washington, DC 20585, (202) 586-7092 or (202) 586-6279 (fax).

SUPPLEMENTARY INFORMATION: Purpose of the Board: The purpose of the Secretary of Energy Advisory Board (The Board) is to provide the Secretary of Energy with essential independent advice and recommendations on issues of national importance. The Board and its subcommittees provide timely, balanced, and authoritative advice to the Secretary of Energy on the Department's management reforms, research, development and technology activities, energy and national security responsibilities, environmental cleanup activities, and economic issues relating to energy.

Tentative Agenda

The agenda for the December 10th meeting has not been finalized. However, the meeting will include a series of briefings and discussions on issues and challenges facing the Department of Energy. The Board will review and discuss the following three SEAB subcommittee reports submitted for their approval:

The Laboratory Operations Board's draft final report, entitled Management Best Practices for the National Laboratories;

The Task Force on the Future of Science Programs at the Department of Energy's draft final report, entitled Critical Choices: Science, Energy, and Security—Final Report of the Secretary of Energy Advisory Board's Task Force on the Future of Science Programs; and

The Blue Ribbon Commission on the Use of Competitive Procedures for the Department of Energy Laboratories' draft final report, entitled Competing the Management and Operations Contracts for DOE's National Laboratories—Report of the Blue Ribbon Commission on the Use of Competitive Procedures for the Department of Energy Laboratories.

Copies of these three draft reports may be obtained from the Board's Web site, located at http://www.seab.energy.gov/ under the heading “What's New” or by contacting the Office of the Secretary of Energy Advisory Board at (202) 586-7092. Members of the public are invited to comment on the these draft reports during the scheduled public comment period or by submitting written comments to the Secretary of Energy Advisory Board by 12 p.m. on December 8, 2003. Members of the public wishing to comment on issues before the Secretary of Energy Advisory Board will have an opportunity to address the Board during the scheduled public comment period from approximately 12:45 p.m. until 2:05 p.m. The final agenda will be available at the meeting.

Public Participation: In keeping with procedures, members of the public are welcome to observe the business of the Secretary of Energy Advisory Board and submit written comments or comment during the scheduled public comment period. The Chairman of the Board is empowered to conduct the meeting in a fashion that will, in the Chairman's judgment, facilitate the orderly conduct of business. During its meeting in Washington, DC, the Board welcomes public comment. Members of the public will be heard in the order in which they sign up for public comment at the beginning of the meeting. The Board will make every effort to hear the views of all interested parties. You may submit written comments to Mr. Richard C. Burrow, Acting Executive Director, Secretary of Energy Advisory Board, AB-1, U.S. Department of Energy, 1000 Independence Avenue, SW., Washington, DC 20585. Comments may also be submitted by fax to (202) 586-6279.

Minutes: A copy of the minutes and a transcript of the meeting will be made available for public review and copying approximately 30 days following the meeting at the Freedom of Information Public Reading Room, 1E-190 Forrestal Building, 1000 Independence Avenue, SW., Washington, DC between 9 a.m. and 4 p.m., Monday through Friday except Federal holidays. Further information on the Secretary of Energy Advisory Board and its subcommittees may be found at the Board's Web site, located at http://www.seab.energy.gov.

Issued at Washington, DC, on November 20, 2003.
Rachel M. Samuel,
Deputy Advisory Committee Management Officer.

[FR Doc. 03-29405 Filed 11-24-03; 8:45 am]

BILLING CODE 6450-01-P